DEPARTMENT OF COMMERCE

International Trade Administration

[A-821-814]

Notice of Amended Final Determination of Sales at Less Than Fair Value: Structural Steel Beams from the Russian Federation

AGENCY: Import Administration, International Trade Administration, U.S. Department of Commerce.

ACTION: Notice of Amended Final Determination of Sales at Less Than Fair Value.

EFFECTIVE DATE: June 19, 2002.

SUMMARY: We published in the Federal Register our final determination for the investigation of structural steel beams from the Russian Federation on May 20, 2002. We are amending our final determination to correct a ministerial error.

FOR FURTHER INFORMATION CONTACT: Hermes Pinilla or Richard Rimlinger, Import Administration, International Trade Administration, U.S. Department of Commerce, 14th Street and Constitution Avenue, NW, Washington, DC 20230; telephone: (202) 482-3477 or (202) 482-4477, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“Department's”) regulations are references to 19 CFR Part 351 (April 2001).

Background

On May 13, 2002, the Department determined that structural steel beams from the Russian Federation are being, or are likely to be, sold in the United States at less than fair value (67 FR 35490; May 20, 2002).

We disclosed our calculations for the final determination to counsel for petitioners, the Committee for Fair Beam Imports, on May 17, 2002, and to counsel for Nizhny Tagil Iron and Steel Works (Tagil) on May 15, 2002.

On May 23, 2002, we received a submission, timely filed pursuant to 19 CFR 351.224(c)(2), from the petitioners alleging a ministerial error in the Department's final determination. In its submission, the petitioners requested that this error be corrected and an amended final determination be issued reflecting this change.

Scope of Investigation

The scope of this investigation covers doubly-symmetric shapes, whether hot-or cold-rolled, drawn, extruded, formed or finished, having at least one dimension of at least 80 mm (3.2 inches or more), whether of carbon or alloy (other than stainless) steel, and whether or not drilled, punched, notched, painted, coated, or clad. These structural steel beams include, but are not limited to, wide-flange beams (“W” shapes), bearing piles (“HP” shapes), standard beams (“S” or “I” shapes), and M-shapes. All the products that meet the physical and metallurgical descriptions provided above are within the scope of this investigation unless otherwise excluded. The following products are outside and/or specifically excluded from the scope of this investigation: (1) Structural steel beams greater than 400 pounds per linear foot, (2) structural steel beams that have a web or section height (also known as depth) over 40 inches, and (3) structural steel beams that have additional weldments, connectors, or attachments to I- sections, H-sections, or pilings; however, if the only additional weldment, connector or attachment on the beam is a shipping brace attached to maintain stability during transportation, the beam is not removed from the scope definition by reason of such additional weldment, connector, or attachment.

The merchandise subject to this investigation is currently classified in the Harmonized Tariff Schedule of the United States (HTSUS) at subheadings 7216.32.0000, 7216.33.0030, 7216.33.0060, 7216.33.0090, 7216.50.0000, 7216.61.0000, 7216.69.0000, 7216.91.0000, 7216.99.0000, 7228.70.3040, and 7228.70.6000. Although the HTSUS subheadings are provided for convenience and customs purposes, the written description of the merchandise under investigation is dispositive.

Period of Investigation

The period of investigation (POI) is October 1, 2000, through March 31, 2001.

Ministerial Error

The Department's regulations provide that the Department will correct any ministerial error by amending the final determination. See 19 CFR 351.224(e). Examples of ministerial errors according to the Department's regulations include mistakes in “addition, subtraction, or other arithmetic function, clerical error resulting from inaccurate copying, duplication, or the like.” See 19 CFR 351.224(f).

Ministerial-Error Allegation

The petitioners allege that the Department erred with respect to the factor the Department used to calculate indirect selling expenses. They argue that the portion attributable to interest expenses should reflect the deduction of interest income and imputed credit expenses. The petitioners argue that in the preliminary determination the Department correctly revised Tagil's indirect selling expense factor to include a figure for interest expense, reduced by amounts for interest income and imputed credit expenses. However, according to the petitioners, during the U.S. sales verification, the verification team found an error with Tagil's original indirect selling expense factor calculation which consequently changed the amount of this factor. The petitioners assert that, as the Department did in the preliminary determination, it should have adjusted Tagil's revised indirect expense selling factor to include a figure for interest expense. Instead, according to the petitioners, the Department simply used the factor reported in the March 22, 2002, sales verification report. The petitioners request that the Department adjust Tagil's indirect selling expense factor to include a figure for interest expense and amend the final determination.

We agree with the petitioners that we made a clerical error with respect to this matter and have recalculated the margin for Tagil. The Department hereby amends its final determination with respect to Tagil to correct this error. For further details, see the analysis memorandum dated June 11, 2002.

Amended Final Determination

We are amending the final determination of sales at less than fair value for structural steel beams from the Russian Federation to reflect the correction of a ministerial error made in the margin calculations in that determination. We are publishing this amendment to the final determination pursuant to 19 CFR 351.224(e).

The revised weighted-average dumping margins are as follows:

Exporter/Manufacturer | Weighted-Average Margin Percentage
Tagil | 239.82
Russia-wide rate | 239.82

Because Tagil is the sole respondent in this investigation and the sole Russian producer or exporter with sales or shipments of subject merchandise to the United States during the POI, the recalculated margin for Tagil also applies to the Russia-wide rate. As a result of our amendment, the Russia-wide rate has also been amended and applies to all entries of the subject merchandise except for entries from Tagil.

Suspension of Liquidation

In accordance with section 735(c)(1)(B) of the Act, we are directing the Customs Service to continue to suspend liquidation of all entries of structural steel beams from the Russian Federation. The Customs Service shall require a cash deposit or the posting of a bond based on the estimated weighted-average dumping margin shown above. Theses suspension-of-liquidation instructions will remain in effect until further notice.

International Trade Commission Notification

In accordance with section 735(d) of the Act, we have notified the International Trade Commission of our amended determination.

We are issuing and publishing this determination and notice in accordance with sections section 735(d) and 777(i) of the Act and 19 CFR 351.224(e).

Dated: June 12, 2002
Richard W. Moreland,
Acting Assistant Secretary for Import Administration.

[FR Doc. 02-15480 Filed 6-18-02; 8:45 am]

BILLING CODE 3510-DS-S